SMALL BUSINESS ADMINISTRATION

[Declaration of Disaster #3558]

State of West Virginia (Amendment #4)

In accordance with a notice received from the Department of Homeland Security—Federal Emergency Management Agency, effective December 9, 2003, the above numbered declaration is hereby amended to include Braxton, Lewis, Logan, and Taylor Counties as disaster areas due to damages caused by severe storms, flooding and landslides occurring on November 11, 2003, and continuing through November 30, 2003.

All other counties contiguous to the above named primary counties have been previously declared. All other information remains the same, i.e., the deadline for filing applications for physical damage is January 20, 2004, and for economic injury the deadline is August 23, 2004.

(Catalog of Federal Domestic Assistance Program Nos. 59002 and 59008)
Dated: December 10, 2003.
Herbert L. Mitchell,
Associate Administrator for Disaster Assistance.

[FR Doc. 03-31078 Filed 12-16-03; 8:45 am]

BILLING CODE 8025-01-P